DEPARTMENT OF LABOR

Employment and Training Administration

[TA-W-63,534]

Novtex Division of Trimtex Co., Inc., Adams, MA; Notice of Termination of Investigation

Pursuant to Section 221 of the Trade Act of 1974, as amended, an investigation was initiated on June 3, 2008, in response to a worker petition filed by a company official on behalf of workers of Novtex Division of Trimtex Co., Inc., Adams, Massachusetts.

The petitioning group of workers is covered by an active certification (TA-W-63,085A) which expires on April 24, 2010. Consequently, further investigation in this case would serve no purpose, and the investigation has been terminated.

Signed at Washington, DC, this 26th day of June 2008.
Richard Church,
Certifying Officer, Division of Trade Adjustment Assistance.

[FR Doc. E8-15345 Filed 7-7-08; 8:45 am]

BILLING CODE 4510-FN-P